DEPARTMENT OF LABOR

Employment and Training Administration

[TA-W-39,162 and NAFTA-4822]

ME International, Inc. Duluth, MN; Notice of Affirmative Determination Regarding Application for Reconsideration

By letter of November 9, 2001, the United Steel Workers of America, Local 1028, District 11 requested administrative reconsideration of the Department of Labor's Notices of Negative Determination Regarding Eligibility to Apply for Worker Adjustment Assistant (TA-W-39,162) and NAFTA—Transitional Adjustment Assistance (NAFTA-4822) for workers of the subject firm. The denial notices applicable to workers of ME International, Inc., Duluth, Minnesota, were signed on October 2, 2001, and published in the Federal Register on October 19, 2001, TA-W-39,162 (66 FR 53251) and NAFTA-4822 (66 FR 53252).

The company presents new information regarding potential customer purchases from Canada during the relevant period. Thus the information provided, warrants further petition investigation.

Conclusion

After careful review of the application, I conclude that the claim is of sufficient weight to justify reconsideration of the Department of Labor's prior decision. The application is, therefore, granted.

Signed at Washington, DC, this 12th day of February, 2002.
Edward A. Tomchick,
Director, Division of Trade Adjustment Assistance.

[FR Doc. 02-5581 Filed 3-7-02; 8:45 am]

BILLING CODE 4510-30-M